DEPARTMENT OF COMMERCE

Economic Development Administration

[991215339-6001-19]

Solicitation of Proposals for the University Center Economic Development Program

AGENCY: Economic Development Administration (EDA), Department of Commerce (DOC)

ACTION: Notice and request for proposals.

SUMMARY: EDA is soliciting proposals for FY 2006 University Center Program funding in the areas served by its Atlanta and Seattle regional offices. EDA's mission is to lead the federal economic development agenda by promoting innovation and competitiveness, preparing American regions for growth and success in the worldwide economy. Institutions of higher education have many assets, such as faculty, staff, libraries, laboratories, and computer systems, which can help to address local economic problems and opportunities. With funding from EDA, institutions of higher education establish and operate University Centers, which provide technical assistance to public and private sector organizations with the goal of enhancing local economic development. EDA has traditionally renewed an award to a University Center on an annual basis, as long as it maintained a satisfactory level of performance and Congress appropriated funds for EDA's Local and National Technical Assistance Programs. In FY 2004, EDA began a phased implementation of a three-year competitive grant cycle for all University Center projects, beginning with those in its Austin and Denver regional offices. In FY 2005, with the competition announced in this notice for University Center projects in the areas served by EDA's Atlanta and Seattle regional offices, EDA is completing the phased implementation of competition for University Center Program funding.

DATES: Proposals must be received by the appropriate EDA regional office by February 21, 2006 at 4 p.m. local time. EDA's Atlanta and Seattle regional offices will each hold a teleconference to answer questions about the FY 2006 competition for University Center funding on January 19, 2006 and January 23, 2006, respectively. For further information and instructions regarding these teleconferences, please see the information provided below under “Teleconferences.”

ADDRESSES: From proponents in Alabama, Florida, Georgia, Kentucky, Mississippi, North Carolina, South Carolina and Tennessee: University Center Program Competition, Economic Development Administration, Atlanta Regional Office, 401 West Peachtree Street, NW., Suite 1820, Atlanta, Georgia 30308.

From proponents in Alaska, American Samoa, Arizona, California, Guam, Hawaii, Idaho, Marshall Islands, Micronesia, Nevada, Northern Mariana Islands, Oregon, Republic of Palau and Washington: University Center Program Competition, Economic Development Administration, Seattle Regional Office, Federal Jackson Building, Room 1856, 915 Second Avenue, Seattle, Washington 98174.

For a copy of the Federal Funding Opportunity (FFO) announcement for this request for proposals, please see the Web site listed below under “Electronic Access.”

FOR FURTHER INFORMATION CONTACT: For additional information or for a paper copy of the FFO announcement, contact the appropriate EDA regional office listed above. EDA's Internet Web site at http://www.eda.gov contains additional information on EDA and its University Center Program.

SUPPLEMENTARY INFORMATION: Electronic Access: EDA is not currently able to accept electronic submissions of proposal packages. However, the FFO announcement for the FY 2006 University Center Program competition is available through Grants.gov at http://www.grants.gov. Additional information is available through EDA's Internet Web site at http://www.eda.gov.

Funding Availability: Funding appropriated under the FY 2006 Science, State, Justice, Commerce and Related Agencies Appropriations Act (Pub. L. 109-108) (2006 Appropriations Act) is available for technical assistance programs authorized by the Public Works and Economic Development Act of 1965 (42 U.S.C. 3121 et seq.), as amended by the Economic Development Administration Reauthorization Act of 2004 (Pub. L. 108-373) (PWEDA). Funds in the amount of $8,215,711 have been appropriated for FY 2006 and shall remain available until expended.

EDA expects to allocate approximately $6,839,529 to the University Center Program and the remaining funds to EDA's Local and National Technical Assistance Programs. The amount of University Center funding available for competition in FY 2006 is expected to be approximately $1,426,223 in the Atlanta regional office and approximately $1,324,444 in the Seattle regional office. Anticipated annual awards for University Centers under the FY 2006 competition are in the $125,000 to $150,000 range in the Atlanta regional office, and in the $100,000 to $215,000 range in the Seattle regional office. Regional offices may, however, choose to fund proposals under this competition outside these ranges. The remaining FY 2006 program funds will be used to continue support for current University Centers. Subject to the availability of funding, the funds made available under the University Center Program are anticipated to be available until expended.

Statutory Authority: The authority for the University Center Program is PWEDA. On August 11, 2005, EDA published an interim final rule (70 FR 47002) to reflect the amendments made to EDA's authorizing statute by the Economic Development Administration Reauthorization Act of 2004 (Pub. L. 108-373). The interim final rule became effective on October 1, 2005. You may access the interim final rule and PWEDA on EDA's Internet Web site at http://www.eda.gov. EDA's public comment period for the interim final rule ran from August 11, 2005 to November 14, 2005. On December 15, 2005, EDA published an interim final rule (70 FR 74193; 70 FR 74196) to effect only those changes to the August 11, 2005 interim final rule specified in the Conference Report accompanying the 2006 Appropriations Act. EDA will consider and respond to comments received during the public comment period and will make additional revisions to the August 11, 2005 interim final rule in publishing a final rule during 2006.

Catalog of Federal Domestic Assistance (CFDA) Number: 11.303, Economic Development—Technical Assistance.

Eligibility: For the University Center Program, EDA considers all accredited institutions of higher education as eligible applicants.

For FY 2006, the University Center competition is open to eligible applicants in areas served by EDA's Atlanta and Seattle regional offices. The Atlanta regional office serves Alabama, Florida, Georgia, Kentucky, Mississippi, North Carolina, South Carolina and Tennessee. The Seattle regional office serves Alaska, American Samoa, Arizona, California, Guam, Hawaii, Idaho, Marshall Islands, Micronesia, Nevada, Northern Mariana Islands, Oregon, Republic of Palau and Washington.

Cost Sharing Requirements: Generally, the amount of the EDA grant may not exceed fifty (50) percent of the total cost of the project. Projects may receive an additional amount that shall not exceed thirty (30) percent, based on the relative needs of the region in which the project will be located, as determined by EDA. See Section 204(a) of PWEDA (42 U.S.C. 3144) and Section 301.4(b)(1) of the interim final rule. For projects of a national scope under part 306 of the interim final rule (Training, Research and Technical Assistance), and for all other projects under part 306 of the interim final rule, after the application of the first two (2) sentences of this paragraph, the Assistant Secretary of Commerce for Economic Development has the discretion to establish a maximum EDA investment rate of up to one-hundred (100) percent where the project (i) merits and is not otherwise feasible without an increase to the EDA investment rate; or (ii) will be of no or only incidental benefit to the recipient. See Section 204(c)(3) of PWEDA (42 U.S.C. 3144) and Section 301.4(b)(4) of the interim final rule. Potential applicants should contact the appropriate EDA regional office to make this determination.

While cash contributions are preferred, in-kind contributions, fairly evaluated by EDA, may include assumptions of debt and contributions of space, equipment, and services and may provide the non-Federal share of the total project cost. See Section 204(b) of PWEDA (42 U.S.C. 3144). In-kind contributions must be eligible project costs and meet applicable Federal cost principles and uniform administrative requirements. Funds from other Federal financial assistance awards are not considered matching share funds. The nature of contribution (cash or in-kind) and the amount of matching share funds will be taken into consideration in the proposal review process. Cash contributions are preferred.

Intergovernmental Review: Applications under the University Center Program are subject to Executive Order 12372, “Intergovernmental Review of Federal Programs.”

Evaluation and Selection Procedures: EDA's Atlanta and Seattle regional offices will conduct an initial administrative and technical review of each proposal package to determine its completeness and compliance with the requirements of this solicitation.

EDA's Atlanta and Seattle regional offices will then conduct an internal review of each proposal meeting the requirements of this solicitation. This review will be conducted by a minimum of three (3) EDA staff using the criteria provided under “Evaluation Criteria” below. Successful proponents under this competition solicitation will be invited to submit a complete application by the Atlanta regional office or the Seattle regional office.

Evaluation Criteria: The following University Center-specific investment policy guidelines have been adapted from the investment policy guidelines set forth in Section 301.8 of the interim final rule. EDA investments in proposed University Centers will be competitively rated and ranked on their ability to satisfy one or more of these University Center-specific investment policy guidelines (each criterion will be given equivalent weight).

1. Be market-based and results driven. An investment in an EDA University Center will capitalize on the university's competitive strengths and will bolster regional economic competitiveness, resulting in tangible, quantifiable improvements in regional economic health, such as increased numbers of higher-skill, higher-wage jobs, increased tax revenue or increased private sector investment.

2. Have strong organizational leadership. An investment will have strong leadership, relevant project management experience, and a significant commitment of human resources talent to ensure a high-performing University Center. Specifically for University Center investments, this includes: (a) The extent to which the proposed University Center will maximize coordination with other relevant organizations and avoid duplication of services offered by other organizations; (b) the extent to which the University Center will access, take advantage of, and be supported by the other resources present at the sponsoring institution, especially the institution's economic development activities; and (c) the degree of evidence demonstrating the support and commitment (both financial and non-financial) of the highest management levels of the proposed University Center's sponsoring institution.

3. Advance productivity, innovation and entrepreneurship. An investment in a proposed University Center will embrace the principles of entrepreneurship; enhance regional industry clusters, and leverage and link technology innovators (university research) with the private sector to create the conditions for greater productivity, innovation and higher-skill, higher-wage job creation.

4. Look beyond the immediate economic horizon, anticipate economic changes, and diversify the local and regional economy. A University Center's activities will be part of an overarching, long-term comprehensive economic development strategy that enhances a region's success in achieving a rising standard of living.

5. Demonstrate a high degree of local commitment by exhibiting:

• High levels of local government or non-profit matching funds and private sector leverage;

• Clear and unified leadership and support by local elected officials; and

• Strong cooperation between the business sector, relevant regional partners and local, State and Federal governments.

In making its recommendations on which institutions should be invited to submit a full application, the EDA review team will strive to avoid the concentration of program funding in a single or very limited number of geographic areas. For that reason, EDA cannot predict a minimum ranking of a successful proposal.

Selection Factors: EDA expects to fund the highest ranking proposals submitted under this competition solicitation. However, EDA may select proposals out of order for several reasons, including: (1) Availability of funding; (2) geographic balance in distribution of funds; (3) program priorities and policy factors as set forth in the FFO announcement; or (4) the applicant's performance under previous awards.

The Department of Commerce Pre-Award Notification Requirements for Grants and Cooperative Agreements

The Department of Commerce Pre-Award Notification Requirements for Grants and Cooperative Agreements, published in the Federal Register on December 30, 2004 (69 FR 78389), are applicable to this solicitation.

Teleconferences

EDA's Atlanta and Seattle regional offices will each hold a teleconference to answer questions about the FY 2006 competition for University Center Program funding.

Atlanta: The Atlanta regional office will hold its conference call on January 19, 2006 at 2 p.m. EST. In order to assure enough incoming lines are available, EDA requests colleges and universities planning to participate in the conference call to send an e-mail to tpellegrino@eda.doc.gov with “Conference Call Registration” in the subject line no later than 2 p.m. EST on January 17, 2006. The number for the conference call is 1-800-988-0490. The pass code for this conference call is “46468.” The lead contact for the conference call is Tom Pellegrino.

Seattle: The Seattle regional office will hold its conference call on January 23, 2006 at 11 a.m. PST. In order to assure enough incoming lines are available, EDA requests colleges and universities planning to participate in the conference call to send an e-mail to batkinson@eda.doc.gov with “Conference Call Registration” in the subject line no later than 2 p.m. PST on January 19, 2006. The number for the conference call is 1-800-857-7001. The pass code for this conference call is “12458.” The lead contact for the conference call is Bettye Atkinson.

Paperwork Reduction Act

This document contains collection-of-information requirements subject to the Paperwork Reduction Act (PRA). The use of Form ED-900P has been approved by OMB under the control number 0610-0094. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: January 4, 2006.
Sandy K. Baruah,
Assistant Secretary of Commerce for Economic Development.

[FR Doc. E6-65 Filed 1-6-06; 8:45 am]

BILLING CODE 3510-24-P